DEPARTMENT OF HEALTH AND HUMAN SERVICES

Administration for Community Living

Agency Information Collection Activities: Submission for OMB Review; Public Comment Request; the State Plan for Assistive Technology (OMB Control Number 0985-0048)

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-day notice collects comments on the information collection requirements related to the proposed extension of the information collection requirements relating to the State Plan of Assistive Technology (OMB Control Number 0985-0048).

DATES: Comments on the collection of information must be submitted electronically by 11:59 p.m. ET or postmarked. July 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attention: OMB Desk Officer for ACL.

FOR FURTHER INFORMATION CONTACT: Robert.Groenendaal@acl.hhs.gov (202) 795-7356.

SUPPLEMENTARY INFORMATION: In compliance with the Paperwork Reduction Act (44 U.S.C. 3506), the Administration for Community Living (ACL) has submitted the following proposed collection of information to OMB for review and clearance. Section 4 of the 21st Century Assistive Technology Act (AT Act) provides grants to states and territories to operate comprehensive statewide assistive technology programs (Statewide AT Programs) that increase access to and acquisition of AT devices and services for individuals with disabilities and older Americans. States and territories are required to apply to ACL in order to receive funds under this grant program. Section 4(d) of the AT Act requires that this application contain:

(1) Information identifying and describing the lead agency and implementing entity (if applicable) responsible for carrying out the Statewide AT Program and a description of how the implementing entity (if applicable) coordinates and collaborates with the state;

(2) A description of how public and private entities were involved in the development of the application and will be involved in implementation of the grant, including the resources to be committed by these entities;

(3) A description of how the Statewide AT Program will implement the activities required under the grant, which include state financing, device reutilization, device loans, device demonstrations, training, technical assistance, and public awareness. Statewide AT Programs must conduct these activities in coordination and collaboration with other appropriate entities;

(4) An explanation of how the grant funds will be allocated, used, and tracked;

(5) A set of assurances; and

(6) A description of the activities that will be supported with State funds.

Section 4 Requirements Necessitating Submission of the State Plan for AT and Annual Data Collection

Section 4 of the AT Act authorizes grants to public agencies in the 50 states and the District of Columbia, Puerto Rico, the Virgin Islands, Guam, American Samoa, and the Commonwealth of the Northern Marianas (states and outlying areas). With these funds, the 56 states and territories operate “Statewide AT Programs” that conduct activities to increase access to, and acquisition of, assistive technology (AT) for individuals with disabilities and older Americans. These comprehensive activities are divided into two categories: “State-level Activities” and “State Leadership Activities.”

According to Section 4 of the AT Act, as a condition of receiving a grant to support their Statewide AT Programs, the 56 states and territories must provide to ACL: (1) applications and (2) annual progress reports on their activities.

Applications: The application required of states and territories is a three-year State Plan for Assistive Technology (State Plan for AT or State Plan) (OMB No. 0985-0048). The content of the State Plan for AT is based on the requirements in Section 4(d) of the AT Act. As a part of this State Plan, Section 4(d)(3) of the AT Act requires that states and territories conduct activities addressing the assistive technology needs of individuals with disabilities in education, employment, community living and information technology/telecommunications.

National aggregation of data related to the required state-level and state leadership activities is necessary for the Government Performance and Results Modernization Act of 2010 (GPRAMA) as well as an Annual Report to Congress. Therefore, this State Plan for AT instrument provides a way for all 56 grantees—50 U.S. states, DC, Puerto Rico, the U.S. Virgin Islands, Guam, American Samoa, and the Commonwealth of the Northern Mariana Islands to collect and report data on their performance in a consistent manner.

Annual Reports: In addition to submitting a State Plan for AT every three years, states and outlying areas are required to submit annual progress reports on their activities. The data required in that progress report is specified in Section 4(f) of the AT Act.

Section 8 Requirements Necessitating Collection

Section 8(d) of the AT Act requires that ACL submit to Congress an annual report on the activities identified in the State Plan for AT and an analysis of the progress of the states and territories in meeting their measurable goals. The State Plan for AT must include a compilation and summary of the activities conducted under Section 4(f). In order to make this possible, states and territories must provide their data uniformly. This State Plan for AT instrument was developed to ensure that all 56 states and territories report data in a consistent manner in alignment with the requirements of Section 4(f).

Comments in Response to the 60-Day Federal Register Notice (FRN)

ACL published a 60-day FRN on March 26, 2024, at 89 FR 20977. ACL received six comments in support of the updates to the State Plan for AT instrument: one each from the Michigan AT Program, the Wisconsin AT Program, and the Association of Assistive Technology Act Programs (ATAP). A public comment summary and ACL responses are provided below.

Comment Summary: Proposed overall updates to the State Plan for Assistive Technology (AT) information collection (IC) instrument and instruction manual to align with the reauthorization of the Assistive Technology Act. Two State AT Act Program grantees and the Association of Assistive Technology Act Programs (ATAP) commented in support of the proposed updates to the State Plan for AT IC as reasonable changes to align with the 21st Century Assistive Technology Act.

Comments

(1) Wisconsin Assistive Technology Program: “I have reviewed the proposed State Plan for AT Instrument and Instructions and also reviewed it with our Statewide Assistive Technology Advisory Council. The reporting structure and requirements appear to satisfy the 21st Century Assistive Technology Act. The updated components and information do not appear that they will cause our program any undue burden or increase our level of reporting for completion of the State Plan for Assistive Technology. I look forward to submitting our next three-year State Plan to ACL once this is finalized.”

(2) Michigan Assistive Technology Program: “I just wanted to submit a comment on the proposed changes to the state plan—the proposed changes look great and won't be a burden for our state. Thank you for all you are doing.”

(3) Association of Assistive Technology Act Programs: “On behalf of the Association of Assistive Technology Act Programs (ATAP), we would like to respond to the U.S. Department of Health and Human Services, Administration for Community Living (ACL)'s Federal Register Notice (FRN) published on March 26, 2024 in 89 FR 20977 regarding the proposed updates to the State Plan for Assistive Technology.

ATAP represents State and Territory Assistive Technology Act Programs formula funded under Section 4 of the Assistive Technology (AT) Act. State and Territory AT Act Programs operate in all 50 states, the District of Columbia, Puerto Rico and four territories and are available for persons with all types of disabilities, all ages, in all environments (education, employment, community living, and information technology). State and Territory AT Act Programs are able to best match the proper assistive technology (AT) with individuals' needs, provide a device demonstration, loan a device, and provide training and support for the use of the device. Assistive technology and/or adaptive equipment can facilitate, support, and improve functionality so every individual with disability can obtain an education, gain, and maintain employment, and live independently in their community.

ATAP supports ACL's proposed updates to the State Plan for Assistive Technology that mirror the changes made to the Assistive Technology Act in the 2022 reauthorization, retitling the law to the 21st Century Assistive Technology Act.

ATAP appreciates the opportunity to comment. Please let me know if we can provide any additional information.”

ACL Response: ACL acknowledged receipt of comments in support of the updates to the State Plan for AT.

Comment Summary: The Texas Assistive Technology Act Program submitted three comments on proposed changes for clarification of terms and activities consistent with the reauthorization of the AT Act.

Comment 1: Advisory Council

“While I completely agree in the proposed representation on the Advisory Committee, unless the other agency has a commensurate data point or a fiscal incentive, they may not be inclined to participate on a state AT Program Advisory. I would assume a state AT program would do their due diligence to acquire representation, and could likely document doing so, it still may not occur. I would hope the plan would provide an opportunity for a State AT Program to document such efforts.

As a specific example for Texas' SEA has been reluctant to engage the state AT Program in any respect. While TTAP has been able to gain participation at Regional levels (Education Service Centers which serve under Texas' SEA—so in essence are representatives but are not directly employed by the SEA), and local levels (LEAs that engage the TTAP Advisory in some capacity), we have not been able to get an actual SEA employee to participate in our Advisory. We speculate, there are many possible reasons—understaffing, frequent turn over, lack of support for AT/assumption that LEAs are “doing fine” with AT, etc. I have heard from other programs similar issues—also extending to VA, housing, Medicaid/HHS, and transportation representation.

To summarize, I see the value of this expectation but think many programs will not be able to make the mark. I am hopeful there will be a mechanism to share efforts programs have made to fulfill this grant obligation even if it was not realized—perhaps some place to record future plans to encourage engagement.”

ACL Response: ACL acknowledged receipt of comment. The updated State Plan for AT instrument enables grantees to describe their efforts to secure required Advisory Council membership.

Comment 2: Education/Training, Technical Assistance, and Public Awareness

“I think this section does not capture the dept of work State AT programs put into this activity. This changes practice which eventually affects outcomes. We can provide access to technology all day long but if people (professionals, care givers, and people with disabilities) do not know what to do with it, it is useless. The collection tool asks for no more than three examples, but education/training, and technical assistance are what make the biggest difference. Anecdotal and narrative information does not measure the impact these activities have on the provision of AT devices and services. I would also like to be able to highlight more than one or two public awareness event plans. These state leadership activities drive increased state level activities. State AT programs should be able to share this robust information and possibly outline 1-3-5-year plans for increasing leadership to better support state level programs.”

ACL Response: ACL acknowledged receipt and agrees with the comment, which is specific to data collection and reporting for the AT Annual Progress Report (APR) Information Collection (IC) instrument. The State Plan for AT is a high-level three-year planning document outlining projected AT Act activities. The AT APR provides an expansive mechanism to report annually on these activities.

Comment 3: Coordination/Collaboration and State Improvement Initiatives

“I did not see this reflected in the State AT planning document though we do collect data on this annually. It also highlights the local control afforded state programs to determine specific needs for our consumers which is a positive aspect of the grant.”

ACL Response: ACL acknowledged receipt and agrees with the comment that is specific to the AT APR IC. The State Plan for AT is a high-level three-year planning document outlining projected AT Act activities. The AT APR provides an expansive mechanism to report annually on these activities.

Estimated Program Burden

ACL estimates the burden of this collection of information as follows:

Fifty-six grantees report to ACL using the web-based data collection system. A workgroup of grantees estimated that the average amount of time required to complete all responses to the data collection instrument is 73 hours annually. The burden estimates affect the reporting responsibilities of the Statewide AT Programs, and the directors were chosen to represent the diversity of the 56 programs based on regions of the country, sizes of the programs, types of agencies operating the programs, and whether or not the director is an individual with a disability. The estimated response burden includes time to review the instructions, gather existing information, and complete and review the data entries.

a. Number of respondents—56

b. Frequency of response—1

c. Total annual responses (a × b)—56

d. Hours per response—73

e. Total burden hours (c × d)—4,088

Dated: June 24, 2024.
Alison Barkoff,
Principal Deputy Administrator for the Administration for Community Living, performing the delegable duties of the Administrator and the Assistant Secretary for Aging.

[FR Doc. 2024-14226 Filed 6-27-24; 8:45 am]

BILLING CODE 4154-01-P